DEPARTMENT OF ENERGY

Federal Energy Regulatory Commission

[Project No. 14635-001]

Village of Gouverneur, New York; Notice of Application Tendered for Filing With the Commission and Soliciting Additional Study Requests

Take notice that the following hydroelectric application has been filed with the Commission and is available for public inspection.

a. Type of Application: Original Minor License.

b. Project No.: 14635-001.

c. Date Filed: September 20, 2019.

d. Applicant: Village of Gouverneur, New York.

e. Name of Project: Gouverneur Hydroelectric Project.

f. Location: The existing project is located on the Oswegatchie River, in St. Lawrence County, New York. The project does not occupy any federal lands.

g. Filed Pursuant to: Federal Power Act, 16 U.S.C. 791(a)-825(a).

h. Applicant Contact: Ronald P. McDougall, Mayor, Village of Gouverneur, 33 Clinton Street, Gouverneur, NY 13642; (315) 287-1720

i. FERC Contact: Jody Callihan, (202) 502-8278 or jody.callihan@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: November 19, 2019.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14635-001.

m. This application is not ready for environmental analysis at this time.

n. The Gouverneur Project consists of the following existing facilities: (1) A 250-foot-long concrete gravity dam, including two bridge piers, which separate the dam into three spillways that range in crest elevation from 403.4 to 403.7 feet North American Vertical Datum of 1988 (NAVD88); (2) an impoundment with a surface area of 109 acres at the normal pool elevation of 403.8 feet NAVD88; (3) a concrete intake structure containing two trash rack bays separated by a 2-foot-wide center pier; (4) a 20-foot-long by 36-foot-wide powerhouse that is integral with the dam and contains two vertical bulb turbines rated at 100 kilowatts each and two 100-kilovolt-ampere Westinghouse generators with a power factor of 0.8; and (5) appurtenant facilities.

The Village proposes to continue operating the project in a run-of-river mode. In addition, the Village proposes to release a minimum flow of 110 cubic feet per second over the project's spillways. The project generated an annual average of 1,195 megawatt-hours between 2014 and 2017.

o. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Procedural schedule and final amendments: The application will be processed according to the following preliminary schedule. Revisions to the schedule may be made as appropriate.

Issue Deficiency Letter (if necessary): November 2019

Request Additional Information: November 2019

Issue Acceptance Letter: February 2020

Issue Scoping Document 1 for comments: March 2020

Request Additional Information (if necessary): May 2020

Issue Scoping Document 2 (if necessary): June 2020

Issue notice of ready for environmental analysis: June 2020

Commission issues Environmental Assessment (EA): December 2020

Comments on EA: January 2021

Final amendments to the application must be filed with the Commission no later than 30 days from the issuance date of the notice of ready for environmental analysis.

Dated: September 26, 2019.
Nathaniel J. Davis, Sr.,
Deputy Secretary.

[FR Doc. 2019-21409 Filed 10-1-19; 8:45 am]

BILLING CODE 6717-01-P